DEPARTMENT OF TRANSPORTATION

Federal Motor Carrier Safety Administration

[Docket No. FMCSA-2025-0787]

Agency Information Collection Activities; New Information Collection: Quantifying the Benefits of Creating New Truck Parking Spaces

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval and invites public comment. This notice invites comments on a proposed information collection titled Quantifying the Benefits of Creating New Truck Parking Spaces. This research study will collect approximately 1,000 survey responses from truck drivers about their experiences with finding truck parking spaces to estimate the monetary benefits of creating new truck parking spaces.

DATES: Comments on this notice must be received on or before January 27, 2026.

ADDRESSES: You may submit comments identified by Docket Number FMCSA-2025-0787 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Dan Britton, Office of Research and Registration, FMCSA, 1200 New Jersey Avenue SE, Washington, DC 20590-0001; (202) 366-9980; dan.britton@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0787), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0787/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

The nationwide shortage of truck parking spaces is a significant source of frustration for truck drivers, increasing expenses for the trucking industry and decreasing safety for all road users. The American Transportation Research Institute conducts an annual survey of trucking industry stakeholders (Critical Issues in the Trucking Industry), and the 2024 survey found that, for the second year in a row, the lack of available truck parking was the second highest industry concern overall, and the number one concern among truck drivers. The lack of truck parking often forces truck drivers to choose between violating federal hours-of-service laws and using unsafe, illegal parking spaces.

Many government, safety, and industry organizations are working to create more truck parking spaces, but there is a lack of research on the actual precise monetary benefits of new truck parking spaces. These benefits include decreasing carriers' costs, increasing drivers' well-being, and reducing the number of crashes. To help State and local policymakers make informed decisions about the construction of truck parking spaces, FMCSA is conducting a research study, titled Quantifying the Benefits of Creating New Truck Parking Spaces, which will survey truck drivers about their parking habits and experiences, gaining the exact information needed to quantify the benefits of new truck parking spaces.

Although researchers have conducted many other surveys on truck parking, none have reliably estimated the statistics needed, including how often and how long truck drivers (a) park in unauthorized spaces, (b) stop driving early to obtain a parking space, (c) drive off their routes to find parking, and (d) drive past hours-of-service limits to find parking. The results of this survey will be combined with related research to produce estimates of the benefits of creating new truck parking spaces in different areas, which could be beneficial to the many government and private organizations that decide where to build new truck parking spaces.

The main objective of this project is to estimate the benefits of new truck parking spaces, but the project will also answer four related research questions:

1. How many trucks are parked in authorized and unauthorized areas per day, on average? In other words, how large is the nationwide shortage of truck parking spaces?

2. What are the most cost-effective methods for increasing truck parking capacity?

3. Which truck parking information management systems are used most often and are most effective?

4. What percentage of drivers routinely make reservations, pay for parking, or use various other truck parking services?

Several thousand truck drivers, from a wide range of sectors, will be asked to complete the 25-minute online survey, with a goal of obtaining approximately 1,000 complete responses.

Title 23, United States Code (U.S.C.), Chapter 4, Section 403 authorizes the Secretary to use funds appropriated to carry out this section to conduct research and development activities, including demonstration projects and the collection and analysis of highway and motor vehicle safety data and related information with respect to all aspects of highway and traffic safety systems and conditions relating to vehicle, highway, driver, passenger, motorcyclist, bicyclist, and pedestrian characteristics; accident causation and investigations; and human behavioral factors and their effect on highway and traffic safety, including driver education, impaired driving and distracted driving; and research on, evaluations of, and identification of best practices related to driver education programs (including driver education curricula, instructor training and certification, program administration, and delivery mechanisms) and make recommendations for harmonizing driver education and multistage graduated licensing systems; and the effect of State laws on any aspects, activities, or programs described in subparagraphs (A) through (E) (see 23 U.S.C. 403(b)(1)(A)(i)-(ii), 23 U.S.C. 403(b)(1)(B)(i)-(iii), 23 U.S.C. 403(b)(1)(E), 23 U.S.C. 403(b)(1)(F)).

Title: Quantifying Benefits of Truck Parking.

OMB Control Number: 2126-00XX.

Type of Request: New ICR.

Respondents: Commercial truck drivers.

Estimated Number of Respondents: 1,000.

Estimated Time per Response: 25 minutes.

Expiration Date: N/A. This is a new ICR.

Frequency of Response: Each survey participant will provide only one survey response.

Estimated Total Annual Burden: 416 hours (0.416 hours per response × 1,000 respondents) at an estimated cost of $15,185.66 ($15.19 per respondent × 1,000 respondents).

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Jonathan Mueller,
Acting Associate Administrator, Office of Research and Registration.

[FR Doc. 2025-21431 Filed 11-26-25; 8:45 am]

BILLING CODE 4910-EX-P